FEDERAL COMMUNICATIONS COMMISSION

Notice of Public Information Collection(s) Being Reviewed by the Federal Communications Commission for Extension Under Delegated Authority

March 25, 2005.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments June 6, 2005. If you anticipate that you will be submitting comments, but find it difficult to do so within the period of time allowed by this notice, you should advise the contact listed below as soon as possible.

ADDRESSES: Direct all Paperwork Reduction Act (PRA) comments to Judith B. Herman, Federal Communications Commission, 445 12th Street, SW., Room 1-C804, Washington, DC 20554 or via the internet to Judith-B.Herman@fcc.gov.

FOR FURTHER INFORMATION CONTACT: For additional information or copies of the information collections contact Judith B. Herman at 202-418-0214 or via the internet at Judith-B.Herman@fcc.gov.

SUPPLEMENTARY INFORMATION: OMB Control No.: 3060-1005.

Title: Numbering Resource Optimization—Phase 3.

Form No.: N/A.

Type of Review: Extension of a currently approved collection.

Respondents: Business or other for profit and state, local or tribal government.

Number of Respondents: 53.

Estimated Time Per Response: 50-85 hours.

Frequency of Response: On occasion reporting requirement and third party disclosure requirement.

Total Annual Burden: 3,380 hours.

Annual Cost Burden: $12,000.

Privacy Act Impact Assessment: N/A.

Needs and Uses: In the Communications Act of 1934, as amended by the Telecommunications Act of 1996, the Federal Communications Commission (“Commission”) was given “exclusive jurisdiction over those portions of the North American Numbering Plan (NANP) that pertains to the United States.” In order for price cap local exchange carriers (LECs) to qualify for exogenous adjustment to access charges established under the federal cost recovery mechanism, they must demonstrate that pooling results in a net cost increase rather than a cost reduction. Applications to state commissions from carriers must demonstrate that certain requirements are met before states grant any use of the safety valve mechanism. State commissions seeking to implement service-specific and/or technology-specific area code overlays, must request delegated authority to do so.

OMB Control No.: 3060-1012.

Title: Schools and Libraries Universal Service Support Mechanism, CC Docket No. 02-6, Notice of Proposed Rulemaking (NPRM), Proposed Americans with Disabilities Act (ADA) Certification.

Form No.: N/A.

Type of Review: Extension of a currently approved collection.

Respondents: Business or other for profit and not-for-profit institutions.

Number of Respondents: 30,000.

Estimated Time Per Response: 2.5 minutes (0.4 hours).

Frequency of Response: On occasion reporting requirement and third party disclosure requirement.

Total Annual Burden: 1,200 hours.

Annual Cost Burden: N/A.

Privacy Act Impact Assessment: N/A.

Needs and Uses: The Commission is seeking an extension (no change) to this OMB-approved information collection. After the 60-day comment period, the Commission will submit this information collection to OMB in order to obtain the full three-year clearance from them. The NPRM solicited comment on whether the Commission should require applicants to certify that the services for which they seek discounts will be used in compliance with the Americans with Disabilities Act and related statutes. The current FCC Form 471, on which entities apply for universal service discounts, contains the following notice: “The Americans with Disabilities Act (ADA, the individuals with Disabilities Education Act and the Rehabilitation Act may impose obligations on entities to make the services purchased with these discounts accessible to and usable by people with disabilities.”

The Commission does not, however, explicitly require compliance with these statutory requirements as a condition of receipt of universal service discounts. If this proposal is adopted and used with an existing form, e.g., FCC Form 486, the requirement will be consolidated into the form. The NPRM also solicited comment on whether the Commission should establish a computerized list accessible on-line, whereby applicants could select specific product or service as part of their FCC Form 471 applications. This proposal is made pursuant to a Government Accountability Office (GAO) recommendation that the Administrator implement stronger measures to ensure that applicants receive funding only for eligible services. One possible approach suggested is the establishment of a computerized list displaying only eligible products and services. If this proposal is adopted, it will be consolidated with FCC Form 471 requirements currently approved under OMB Control Number 3060-0806.

Federal Communications Commission.
Marlene H. Dortch,
Secretary.

[FR Doc. 05-6562 Filed 4-5-05; 8:45 am]

BILLING CODE 6712-01-P